DEPARTMENT OF STATE

[Public Notice 8006]

Meeting of the International Telecommunication Advisory Committee (ITAC)

SUMMARY: This notice announces a meeting of the International Telecommunication Advisory Committees (ITAC) to review status of preparations for the World Conference on International Telecommunication and the World Telecommunication Standardization Assembly.

The ITAC will meet on September 19, 2012 from 10AM to noon EDT at 1120 20th Street, 10th floor, Washington, DC to review the status of preparations for the World Conference on International Telecommunication and the World Telecommunication Standardization Assembly. Attendance at this meeting is open to the public as seating capacity allows. The public will have an opportunity to provide comments at these meetings. People desiring further information on this meeting, including those wishing to request reasonable accommodation to attend the meeting, should contact the Secretariat at minardje@state.gov, by September 10, 2012.

Dated: August 24, 2012.
Marian R. Gordon,
International Communications & Information Policy, U.S. Department of State.

[FR Doc. 2012-21573 Filed 8-30-12; 8:45 am]

BILLING CODE 4710-07-P